DEPARTMENT OF ENERGY

Federal Energy Regulatory Commission

[Docket No. EL01-122-005, et al.]

PJM Interconnection, L.L.C., et al.; Electric Rate and Corporate Filings

November 29, 2002.

The following filings have been made with the Commission. The filings are listed in ascending order within each docket classification.

1. PJM Interconnection, L.L.C.

[Docket No. EL01-122-005]

Take notice that on November 21, 2002, in compliance with the Commission's order in PJM Interconnection, L.L.C., 101 FERC ¶ 61,135 (2002), PJM Interconnection, L.L.C. (PJM) submitted for filing amendments to the PJM Open Access Transmission Tariff to amend the PJM Market Monitoring Plan to comply with the Commission's earlier order issued in this proceeding on December 20, 2001 (PJM Interconnection, L.L.C., 97 FERC ¶ 61,319 (2002)), by adding a new section addressing investigations of undue preference.

As directed by the Commission, PJM requests an effective date of May 15, 2002 for the amendments.

Copies of this filing were served upon all parties designated on the official service list in Docket No. EL01-122, all PJM members and each state electric utility regulatory commissions in the PJM control area and PJM West region.

Comment Date: December 12, 2002.

2. TransCanada Energy Ltd.

[Docket No. ER97-1417-001]

Take notice that on November 21, 2002, TransCanada Energy Ltd. (TCE) filed a notification of a change in status to reflect certain departures from the facts the Commission relied upon in granting market-based rate authority.

Comment Date: December 12, 2002.

3. AES Placerita, Inc.

[Docket No. ER00-33-003]

Take notice that on November 22, 2002, pursuant to the Federal Energy Regulatory Commission's Order in this docket, AES Placerita, Inc. (Placerita) submitted its triennial market power update. In addition, pursuant to Section 205 of the Federal Power Act, Placerita submitted its second revision to FERC Electric Rate Schedule, Original Volume No. 1, and its first revision to its code of conduct reflecting new corporate affiliations.

Comment Date: December 13, 2002.

4. Adirondack Hydro Development Corporation, Adirondack Hydro Fourth Branch, LLC, Black Hills Colorado, LLC, Black Hills Power, Inc., Black Hills Generation, Inc., Black Hills Pepperell Power Associates, Inc., Fountain Valley Power, LLC, Harbor Cogeneration Company, NYSD LP, Sissonville LP, Warrensburg Hydro Power LP

[Docket Nos. ER00-3109-001, ER00-3774-001, ER00-1952-001, ER02-2287-001, ER01-1844-001, ER96-1635-008, ER01-1784-004, ER99-1248-003, and ER00-3109-001]

Take notice that on November 25, 2002, Black Hills Corporation, on behalf of itself and its public utility affiliates with authorization to sell electric capacity and energy at market-based rates, submitted a consolidated triennial market power update analysis demonstrating that each of the Black Hills entities satisfies the Federal Energy Regulatory Commission's applicable standards for assessing generation market power.

Comment Date: December 16, 2002.

5. Aquila, Inc.

[Docket No. ER03-188-001]

Take notice that on November 22, 2002, Aquila, Inc. filed a correction to its notice of termination of Transmission Service Agreements for Short-Term Firm and Non-Firm Point-to-Point Transmission Service between Aquila and El Paso Merchant Energy. Aquila requests that the termination be made effective on September 30, 2002.

Comment Date: December 13, 2002.

6. Aquila, Inc.

[Docket No. ER03-189-001]

Take notice that on November 22, 2002, Aquila, Inc. (Aquila) filed a supplement to its notice of termination of Transmission Service Agreements for Non-Firm and Short-Term Firm Point-to-Point Transmission Service between Aquila and El Paso Merchant Energy. Aquila requests that the termination be made effective on October 19, 2002.

Comment Date: December 13, 2002.

7. New York Independent System Operator, Inc.

[Docket No. ER03-200-001]

Take notice that on November 22, 2002, the New York Independent System Operator, Inc. (NYISO) filed with the Federal Energy Regulatory Commission (Commission) a corrected version of proposed Attachment V (ISO Working Capital Fund) to its Open Access Transmission Tariff. The corrected version conforms to the Commission's rules governing the pagination of tariff sheets. It is identical to the version originally filed on November 18, 2002 in all other respects.

The NYISO has served a copy of this filing to all parties that have executed Service Agreements under the NYISO's Open-Access Transmission Tariff or Services Tariff, the New York State Public Service Commission and to the electric utility regulatory agencies in New Jersey and Pennsylvania.

Comment Date: December 13, 2002.

8. California Independent System Operator Corporation

[Docket No. ER03-219-000]

Take notice that on November 25, 2002, the California Independent System Operator Corporation (ISO) tendered for filing revisions to the Transmission Control Agreement (TCA) for acceptance by the Commission. The ISO states that the purpose of the amendment is (1) to clarify, amend, and supplement various provisions of the current TCA in response to issues raised by the Cities of Anaheim, Azusa, Banning, and Riverside, California (together Southern Cities), which have applied to become Participating Transmission Owners; (2) to identify the transmission interests that Southern Cities will be turning over to the ISO's Operational Control, and (3) to make certain other changes to the TCA proposed by the ISO and the current Participating Transmission Owners.

The ISO states that this filing has been served on the Public Utilities Commission of the State of California, the California Energy Commission, the California Electricity Oversight Board, and all parties, including the signatories to the TCA, with effective Scheduling Coordinator Agreements under the ISO Tariff.

The ISO is requesting waiver of the 60-day notice requirement to allow the TCA to be made effective January 1, 2003.

Comment Date: December 16, 2002.

9. PJM Interconnection, L.L.C.

[Docket No. ER03-220-000]

Take notice that on November 25, 2002, PJM Interconnection, L.L.C. (PJM), submitted for filing with the Federal Energy Regulatory Commission (Commission) amendments to the PJM Open Access Transmission Tariff that more clearly conform the confidentiality provisions of the Market Monitoring Plan to the confidentiality provisions in the Amended and Restated Operating Agreement of PJM Interconnection, L.L.C.

PJM requests waiver of the Commission's notice requirements to permit an effective date of November 26, 2002.

Copies of this filing were served upon all PJM members and each state electric utility regulatory commission in the PJM control area and PJM West region.

Comment Date: December 16, 2002.

10. El Paso Electric Company

[Docket No. ER03-221-000]

Take notice that on November 25, 2002, El Paso Electric Company tendered for filing with the Federal Energy Regulatory Commission (Commission) unexecuted Service Agreements with Arizona Public Service Company and Public Service Company of New Mexico.

Comment Date: December 16, 2002.

11. Las Vegas Cogeneration II, L.L.C.

[Docket No. ER03-222-000]

Take notice that on November 25, 2002, Las Vegas Cogeneration II, L.L.C., filed an initial rate schedule to sell power at market-based rates.

Comment Date: December 16, 2002.

12. Florida Power & Light Company

[Docket No. ER03-223-000]

Take notice that on November 26, 2002, Florida Power & Light Company (FPL) filed with the Federal Energy Regulatory Commission an executed First Revised Construction and Connection Agreement between FPL and Oleander Power Project, L.P (Oleander). This First Revised Service Agreement No. 178 provides for additional mutually agreed to terms and conditions governing the interconnection between FPL and Oleander. A copy of this filing has been served on Oleander and the Florida Public Service Commission.

Comment Date: December 16, 2002.

13. American Electric Power Service Corporation

[Docket No. ER03-224-000]

Take notice that on November 26, 2001, American Electric Power Service Corporation (AEPSC) submitted for filing (1) the Service Agreement for ERCOT Regional Transmission Service between AEPSC and Medina Electric Cooperative Inc. (MEC), dated October 1, 2001, (2) a notice of cancellation of a service agreement for ERCOT regional transmission service between CPL and West Texas Utilities Company collectively, and MEC, dated January 1, 1997, (3) an amended interconnection agreement between Central Power and Light Company (CPL) and MEC, dated November 29, 1999, and (4) a notice of cancellation of an interchange agreement among CPL, MEC and South Texas Electric Cooperative, Inc., dated February 6, 1979.

AEPSC requests an effective date of October 1, 2001 for the Service Agreement for ERCOT Regional Transmission Service, cancellation of the earlier service agreement for ERCOT regional transmission service and addition of Facility Schedule Nos. 9 through 12 to the interconnection agreement. Such date coincides with the cancellation of CPL's agreement with MEC under which CPL supplied wholesale electric power service to MEC. AEPSC requests an effective date of August 30, 2000 for the amendment to Facility Schedule No. 7 of the interconnection agreement and it requests that the interchange agreement be canceled effective August 28, 2001.

AEPSC served copies of the filing on Medina Electric Cooperative, Inc. and the Public Utility Commission of Texas.

Comment Date: December 17, 2002.

14. Public Service Company of Oklahoma

[Docket No. ER03-225-000]

Take notice that on November 26, 2002, Public Service Company of Oklahoma (PSO) submitted for filing with the Federal Energy Regulatory Commission (Commission) a Restated and Amended Interconnection Agreement between PSO and the City of Coffeyville, Kansas (Coffeyville), dated September 12, 2002.

PSO requests an effective date of October 1, 2002. Because there are no rates or charges associated with this filing, PSO requests waiver of the Commission's notice requirements.

AEPSC served copies of the filing on Coffeyville and the Oklahoma Corporation Commission.

Comment Date: December 17, 2002.

15. Central Vermont Public Service Corporation

[Docket No. ER03-226-000]

Take notice that on November 26, 2002, Central Vermont Public Service Corporation (CVPS) tendered for filing the Forecast 2003 Cost Report required under Paragraph Q-2 on Original Sheet No. 19 of the Rate Schedule FERC No. 135 (RS-2 rate schedule) under which CVPS sells electric power to Connecticut Valley Electric Company Inc. (Customer). CVPS states that the Cost Report reflects changes to the RS-2 rate schedule which were approved by the Commission's June 6, 1989 order in Docket No. ER88-456-000. The Forecast 2003 Cost Report supports rates that represent a decrease of $1,266,280 for estimated non-energy costs in 2003.

Copies of the filing were served upon the Customer, the New Hampshire Public Utilities Commission, and the Vermont Public Service Board.

Comment Date: December 17, 2002.

16. Duke Energy Corporation

[Docket No. ER03-227-000]

Take notice that on November 25, 2002, Duke Energy Corporation, on behalf of Duke Power and Duke Electric Transmission, (collectively, Duke), tendered for filing an amended Network Integration Transmission Service Agreement (NITSA) between Duke and the City of Seneca, South Carolina. Duke seeks an effective date of November 1, 2002 for the amended NITSA.

Comment Date: December 16, 2002.

17. SP Newsprint Co.

[Docket No. QF03-34-000]

Take notice that on November 27, 2002, SP Newsprint Co., 1301 Wynooski Street, P. O. Box 70, Newberg, Oregon 97123, tendered for filing with the Federal Energy Regulatory Commission (Commission) a Notice of Application for Commission Certification of Qualifying Status of a Cogeneration Facility pursuant to Section 292.207(b) of the Commission's regulations. No determination has been made that the submittal constitutes a complete filing.

The new cogeneration facility will be located at the applicant's recycled content newsprint mill in Newberg, Oregon, and will consist of two natural gas-fired turbine generators combined with two heat recovery steam generators. The power output and steam recovered from the facility will be substantially used in the papermaking process. Surplus power and capacity not needed for the papermaking process may be sold to Pacific Northwest utilities or energy marketers. SP Newsprint currently purchases electric energy from PGE. PGE may provide the applicant with a variety of services including interconnection, wheeling, and ancillary services. In addition to PGE, it is anticipated that Bonneville Power Administration may provide wheeling and transmission services for the facility. The energy source for the facility will be natural gas. The maximum net electric power production capacity of the new cogeneration facility will be approximately 100 MW. The facility is expected to be in commercial operation by July 2003.

Comment Date: December 27, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-30984 Filed 12-6-02; 8:45 am]

BILLING CODE 6717-01-P